ENVIRONMENTAL PROTECTION AGENCY

[FRL-7402-1]

Environmental Laboratory Advisory Board (ELAB) Meeting Date, and Agenda

AGENCY: Environmental Protection Agency (EPA).

ACTION: Notice of teleconference meeting.

SUMMARY: The Environmental Protection Agency's Environmental Laboratory Advisory Board (ELAB) will have a teleconference meeting on December 18, 2002, at 11:00 AM EDT to discuss the ideas, comments, and suggestions presented at the November 21, 2002, ELAB Meeting and Open Forum. Items to be discussed include: (1) Opinions and comments made at the New Mexico ELAB meetings, (2) restructuring of the National Environmental Laboratory Accreditation Conference (NELAC), (3) discussion on future ELAB recommendations to EPA, and (4) recommendations for increasing the number of States that are Accrediting Authorities. ELAB is soliciting input from the public on these and other issues related to the National Environmental Laboratory Accreditation Program (NELAP) and the NELAC standards. Written comments on NELAP laboratory accreditation and the NELAC standards are encouraged and should be sent to Mr. Edward Kantor, DFO, US EPA, P.O. Box 93478, Las Vegas NV 89193-3478, or faxed to (702) 798-2261, or emailed to kantor.edward@epa.gov. Members of the public are invited to listen to the teleconference calls and, time permitting, will be allowed to comment on issues discussed during this and previous ELAB meetings. Those persons interested in attending should call Edward Kantor at 702-798-2690 to obtain teleconference information. The number of lines are limited and will be distributed on a first come, first served basis. Preference will be given to a group wishing to attend over a request from an individual.

Dated: October 23, 2002.
John G. Lyon,
Director, Environmental Sciences Division, National Environmental Research Laboratory.

[FR Doc. 02-27624 Filed 10-29-02; 8:45 am]

BILLING CODE 6560-50-P